DEPARTMENT OF ENERGY

Federal Energy Regulatory Commission

[Docket No. CP00-91-000]

National Fuel Gas Supply Corporation; Notice of Site Visit

March 17, 2000.

On March 28 and 29, 2000, the Office of Energy Project's (OEP) staff will inspect National Fuel Gas Supply Corporation's (National Fuel) proposed Line AM-60 Replacement Project involving the construction and operation of facilities in Elk, McKean and Warren Counties, Pennsylvania. The areas will be inspected by automobile and on foot. Representatives of National Fuel will accompany the OEP staff. Anyone interested in participating in the site visits must provide their own transportation.

For additional information, contact Mr. Paul McKee of the Commission's Office of External Affairs at (202) 208-1088.

Linwood A. Watson, Jr.,
Acting Secretary.

[FR Doc. 00-7150 Filed 3-22-00; 8:45 am]

BILLING CODE 6717-01-M